DEPARTMENT OF TRANSPORTATION

Federal Highway Administration

Environmental Impact Statement: Cherokee and Forsyth Counties, Georgia.

AGENCY: Federal Highway Administration (FHWA) United States Department of Transportation (USDOT).

ACTION: Rescind Notice of Intent To Prepare an EIS.

SUMMARY: The FHWA is issuing this notice to advise the public that the Notice of Intent (NOI) for the preparation of an Environmental Impact Statement (EIS) to study the proposed transportation project (State Route 20) located in Cherokee and Forsyth Counties, Georgia, is being rescinded. The NOI was published in the Federal Register on April 11, 2013. A Draft EIS was not released. The rescission is based on federal aid funding has been eliminated from the on the SR 20 project. The Georgia Department of Transportation (GDOT) will fund the project using state transportation funding.

FOR FURTHER INFORMATION CONTACT: Chetna P. Dixon, Environmental Coordinator, Federal Highway Administration Georgia Division, 61 Forsyth Street, Suite 17T100, Atlanta, Georgia 30303. Phone 404-562-3630 or Nicole Law, Project Manager, Georgia Department of Transportation, 600 West Peachtree Street, 25th Floor, Atlanta, Georgia 30308, Telephone: (404) 631-1723, Email: nlaw@dot.ga.gov.

SUPPLEMENTARY INFORMATION: On December 8, 2015, GDOT announced the improvements to SR 20 would be funded with state funding. Comments or questions concerning the rescission of the proposed action and the EIS should be directed to the FHWA at the address provided above.

Issued on: February 5, 2016.
William Farr,
Assistant Division Administrator, Federal Highway Administration, Atlanta, Georgia.

[FR Doc. 2016-02766 Filed 2-10-16; 8:45 am]

BILLING CODE P